DEPARTMENT OF COMMERCE

National Oceanic and Atmospheric Administration

[I.D. 111703F]

New England Fishery Management Council; Public Meetings

AGENCY: National Marine Fisheries Service (NMFS), National Oceanic and Atmospheric Administration (NOAA), Commerce

ACTION: Notice of public meeting.

SUMMARY: The New England Fishery Management Council (Council) is scheduling a public meeting of its Habitat Committee in December, 2003 to consider actions affecting New England fisheries in the exclusive economic zone (EEZ). Recommendations from this group will be brought to the full Council for formal consideration and action, if appropriate.

DATES: The meeting will be held on December 8, 2003, at 9:30 a.m.

ADDRESSES: The meeting will be held at the Village Inn, One Beach Street, Narragansett, RI 02882; telephone: (401) 783-6767. Council address: New England Fishery Management Council, 50 Water Street, Mill 2, Newburyport, MA 01950; telephone: (978) 465-0492.

FOR FURTHER INFORMATION CONTACT: Paul J. Howard, Executive Director, New England Fishery Management Council. Requests for special accommodations should be addressed to the New England Fishery Management Council, 50 Water Street, Mill 2, Newburyport, MA 01950, telephone: (978) 465-0492.

SUPPLEMENTARY INFORMATION: The Habitat Oversight Committee will discuss the upcoming Omnibus Habitat Amendment including, but not limited to, the review of the Draft Timeline, Draft Notice of Intent, Draft Request for Proposals for Habitat Areas of Particular Concern and Dedicated Habitat Research Areas, and inclusion of the Draft Habitat Advisory Panel Process.

The meeting will also include a recap of Council decisions in Amendment 10 to the Atlantic Sea Scallop Fishery Management Plan (FMP) and Amendment 13 to the Multispecies FMP. In addition, the Committee will be updated on the status of the American Oceans Campaign v. Daley lawsuit settlement agreement requirements and any NMFS Essential Fish Habitat Consultations of particular interest to the Council. The Committee will also be updated on recent Marine Protected Area (MPA) work by the formerly separate MPA Committee. The timeline for development of a Council policy on MPAs will be developed. Possible closed session for the discussion and selection of habitat advisory panel.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting date.

Dated: November 18, 2003.
Richard W. Surdi,
Acting Director, Office of Sustainable Fisheries, National Marine Fisheries Service.

[FR Doc. E3-00385 Filed 11-21-03; 8:45 am]

BILLING CODE 6717-01-P